NUCLEAR REGULATORY COMMISSION

Advisory Committee on Nuclear Waste; Notice of Meeting

The Advisory Committee on Nuclear Waste (ACNW) will hold its 131st meeting on January 8-10, 2002, at 11545 Rockville Pike, Rockville, Maryland, Room T-2B3.

The entire meeting will be open to public attendance.

The schedule for this meeting is as follows:

Tuesday, January 8, 2002

A. 8:30-10:15 A.M.: Opening Statement/Planning and Procedures (Open)—The Chairman will open the meeting with brief opening remarks. The Committee will then review items under consideration at this meeting and consider topics proposed for future ACNW meetings.

B. 10:30-11:30 A.M.: Proposed Rule on Probability of an Unlikely Event (Open)—The staff will provide an information briefing on the proposed rule: 10 CFR Part 63, “Specification of a Probability for Unlikely Features, Events and Processes”.

C. 1-3 P.M.: Preparation of ACNW Reports (Open)—The Committee will discuss proposed reports on the following topics:

• ACRS/ACNW November 14, 2001 Joint Subcommittee Meeting on Risk-Informed Regulation in NMSS

• Annual Research Report to the Commission

• Proposed Rule on Probability of an Unlikely Event

D. 3:15-6 p.m.: Discussion of Topics for Meeting with the NRC Commissioners (Open)—The Committee will discuss topics scheduled for its January 9, 2002 meeting with the Commission.

Wednesday, January 9, 2002

E. 8:30-8:35 A.M.: Opening Remarks by the ACNW Chairman (Open)—The ACNW Chairman will make opening remarks regarding the conduct of the meeting.

F. 8:35-9:30 A.M.: Final Preparation for Committee Meeting with the NRC Commissioners (Open)—The Committee will finalize preparations for meeting with the NRC Commission.

G. 9:40-11:30 A.M.: Meeting with the NRC Commissioners (Open)—The Committee will meet with the NRC Commissioners in the Commissioners' Conference Room, One White Flint North, to discuss: Issue Resolution and Sufficiency Review, Total Systems Performance Assessment for Site Recommendation, High-Level Waste Chemistry Issues, Research Program in Radioactive Waste, and related matters.

H. 1-2 P.M.: ACNW Planning Retreat (Open)—The Committee will finalize plans for its February 27-28—March 1, 2002 retreat.

Thursday, January 10, 2002

I. 8:30-8:35 A.M.: Opening Remarks by the ACNW Chairman (Open)—The ACNW Chairman will make opening remarks regarding the conduct of the meeting.

J. 8:35-11:30 A.M.: Preparation of ACNW Reports (Open)—The Committee will continue its discussion of proposed ACNW reports.

K. 12:30-1:30 P.M.: Miscellaneous (Open)—The Committee will discuss matters related to the conduct of Committee activities and matters and specific issues that were not completed during previous meetings, as time and availability of information permit.

Procedures for the conduct of and participation in ACNW meetings were published in the Federal Register on October 3, 2001 (66 FR 50461). In accordance with these procedures, oral or written statements may be presented by members of the public, electronic recordings will be permitted only during those portions of the meeting that are open to the public, and questions may be asked only by members of the Committee, its consultants, and staff. Persons desiring to make oral statements should notify Mr. Howard J. Larson, ACNW (Telephone 301/415-6805), between 8 A.M. and 4 P.M. EST, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting notices, meeting transcripts, and letter reports are now available for downloading or viewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EST at least 10 days before the meeting to ensure the availability of this service.

Individuals or organizations requesting this service will be responsible for telephone line charges and for providing the equipment and facilities that they use to establish the videoteleconferencing link. The availability of videoteleconferencing services is not guaranteed.

The ACNW meeting dates for Calendar Year 2002 are provided below:

ACNW Meeting No. and Meeting Date:

131st (Rockville, MD)—January 8-10 2002

132nd (Rockville, MD)—February 7, 2002

133rd (Rockville, MD)—March 19-21, 2002

134th (Rockville, MD)—April 16-18, 2002

135th (Las Vegas, NV—tentative)—May 21-23, 2002

136th (Rockville, MD)—June 18-20, 2002

137th (Rockville, MD)—July 23-25, 2002

August 2002—No Meeting

138th (Rockville, MD)—September 24-26, 2002

139th (Rockville, MD)—October 22-24, 2002

140th (Rockville, MD)—November 19-21, 2002

December 2002—No meeting

Dated: December 13, 2001.
Andrew L. Bates,
Advisory Committee Management Officer.

[FR Doc. 01-31213 Filed 12-18-01; 8:45 am]

BILLING CODE 7590-01-P